DEPARTMENT OF LABOR

Occupational Safety and Health Administration

[Docket No. NRTL1-88]

MET Laboratories, Inc.; Applications for Renewal and Expansion of Recognition

AGENCY: Occupational Safety and Health Administration (OSHA), Labor.

ACTION: Notice.

SUMMARY: This notice announces the applications of MET Laboratories, Inc., for renewal of its recognition as a Nationally Recognized Testing Laboratory under 29 CFR 1910.7, and for expansion of its recognition to include additional test standards, and presents the Agency's preliminary finding. This preliminary finding does not constitute an interim or temporary approval of these applications.

DATES: Comments submitted by interested parties, or any request for extension of the time to comment, must be received no later than April 26, 2002.

ADDRESSES: Submit written comments concerning this notice to: Docket Office, Docket NRTL1-88, U.S. Department of Labor, Occupational Safety and Health Administration, Room N2625, 200 Constitution Avenue, NW., Washington, DC 20210; telephone: (202) 693-2350. Commenters may transmit written comments of 10 pages or less in length by facsimile to (202) 693-1648. Submit requests for extensions concerning this notice to: Office of Technical Programs and Coordination Activities, NRTL Program, Occupational Safety and Health Administration, U.S. Department of Labor, Room N3653, 200 Constitution Avenue, NW., Washington, DC 20210.

FOR FURTHER INFORMATION CONTACT: Bernard Pasquet or Sherrey Nicolas, Office of Technical Programs and Coordination Activities, NRTL Program, Room N3653 at the above address, or phone (202) 693-2110.

SUPPLEMENTARY INFORMATION:

Notice of Application

The Occupational Safety and Health Administration (OSHA) hereby gives notice that MET Laboratories, Inc. (MET), has applied for renewal and for expansion of its recognition as a Nationally Recognized Testing Laboratory (NRTL). MET's expansion requests cover the use of two additional test standards. OSHA's current scope of recognition for MET may be found in the following informational web page: http://www.osha-slc.gov/dts/otpca/nrtl/met.html.

OSHA recognition of an NRTL signifies that the organization has met the legal requirements in §1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational web page for each NRTL, which details its scope of recognition. These pages can be accessed from our Web site at http://www.osha-slc.gov/dts/otpca/nrtl/index.html.

The most recent notice published by OSHA for MET's recognition covered an expansion of recognition to include additional standards, which became effective on September 26, 2001 (66 FR 49211). The other Federal Register notices related to MET's recognition that OSHA has published, since MET's previous renewal of recognition, addressed an expansion for additional standards, which was announced on November 10, 1998 (63 FR 63085), and granted on March 9, 1999 (64 FR 11502). The renewal would incorporate all of these recognitions granted to MET.

The current address of the MET facility (site) already recognized by OSHA is: MET Laboratories, Inc., 914 West Patapsco Avenue, Baltimore, Maryland 21230.

General Background on the Applicant and Applications

MET Laboratories, Inc., was incorporated in Baltimore, Maryland, in October, 1959, as Eastern Electrical Testing Laboratories. The name was changed one year later to Maryland Electrical Testing Company. The name changed again to MET Electrical Testing Company in 1973. MET Electrical Testing Company applied to OSHA for recognition as a Nationally Recognized Testing Laboratory in April 1988. On May 16, 1989 (54 FR 21136), it received this initial recognition.

Appendix A to 29 CFR 1910.7 stipulates that the period of recognition of an NRTL is five years and that an NRTL may renew its recognition by applying not less than nine months, nor more than one year, before the expiration date of its current recognition. NRTLs submitting requests within this allotted time period retain their recognition during OSHA's renewal process. Under its current name, MET Laboratories, Inc., it applied for its first renewal of recognition in August 1993, which OSHA announced, along with other MET applications, on August 6, 1996 (61 FR 41661). OSHA granted the renewal on November 20, 1996 (61 FR 59114).

MET has submitted a request, dated February 9, 2001 (see exhibit 28), to renew its recognition, within the allotted time period, and retains its recognition pending OSHA's final decision in this renewal process. MET's existing scope of recognition consists of the facility listed above, and the test standards and supplemental programs listed below under Renewal of Recognition.

Also, MET has submitted a request, dated February 13, 2002 (see exhibit 28-1), to expand its recognition to include two additional test standards. The OSHA NRTL Program Staff has determined that it can grant recognition for the two test standards listed below under Expansion of Recognition because it has determined the standards are “appropriate test standards,” within the meaning of 29 CFR 1910.7(c). The staff makes such determinations in processing applications from any NRTL.

Renewal of Recognition

MET seeks renewal of its recognition for the one site that OSHA has previously recognized. In processing MET's renewal request, OSHA NRTL Program staff performed an on-site review of MET's facility on October 1 and 3, 2001. In the on-site review report (see Exhibit 29), the staff recommended a “positive finding,” which means a positive recommendation to the Assistant Secretary regarding the renewal.

MET also seeks renewal of its recognition for testing and certification of products for demonstration of conformance to the following 102 test standards, which OSHA has previously recognized for MET. Except as explained below (see paragraph immediately following listing of standards), all these standards are “appropriate,” within the meaning of 29 CFR 1910.7(c).

ANSI C12.1 Code for Electricity Meters

ANSI/IEEE C57.13 Terminology and Test Code for Instrument Transformers

ANSI/UL 5 Surface Metal Raceways and Fittings

ANSI/UL 22 Electric Amusement Machines

UL 45 Portable Electric Tools

ANSI/UL 50 Enclosures for Electrical Equipment

ANSI/UL 65 Electric Wired Cabinets

ANSI/UL 73 Electric Motor-Operated Appliances

ANSI/UL 122 Electric Photographic Equipment

ANSI/UL 130 Electric Heating Pads

ANSI/UL 153 Portable Electric Lamps

ANSI/UL 187 X-Ray Equipment

ANSI/UL 197 Commercial Electric Cooking Appliances

ANSI/UL 201 Garage Equipment

ANSI/UL 231 Electrical Power Outlets

UL 416 Refrigerated Medical Equipment

ANSI/UL 469 Musical Instruments and Accessories

ANSI/UL 471 Commercial Refrigerators and Freezers

ANSI/UL 482 Portable Sun/Heat Lamps

ANSI/UL 484 Room Air Conditioners

ANSI/UL 499 Electric Heating Appliances

UL 506 Specialty Transformers

ANSI/UL 507 Electric Fans

ANSI/UL 508 Electric Industrial Control Equipment

ANSI/UL 514A Metallic Outlet Boxes, Electrical

UL 544 Electric Medical and Dental Equipment

UL 664 Commercial Dry-Cleaning Machines (Type IV)

ANSI/UL 676 Underwater Lighting Fixtures

ANSI/UL 698 Industrial Control Equipment for Use in Hazardous (Classified) Locations

ANSI/UL 705 Power Ventilators

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

ANSI/UL 751 Vending Machines

UL 763 Motor-Operated commercial Food Preparing Machines

UL 775 Graphic Arts Equipment

ANSI/UL 813 Commercial Audio Equipment

ANSI/UL 859 Personal Grooming Appliances

UL 869A Standard for Service Equipment

ANSI/UL 886* Outlet Boxes and Fittings for Use in Hazardous (Classified) Locations

ANSI/UL 913 Intrinsically Safe Apparatus and Associated apparatus for Use in Class I, II, and III, Division 1, Hazardous Locations

ANSI/UL 923 Microwave Cooking Appliances

UL 935 Fluorescent-Lamp Ballasts

ANSI/UL 982 Motor-Operated Household Food Preparing Machines

ANSI/UL 1012 Power Supplies

ANSI/UL 1017 Vacuum Cleaning Machines and Blower Cleaners

ANSI/UL 1018 Electric Aquarium Equipment

UL 1026 Electric Household Cooking and Food Serving Appliances

UL 1028 Hair Clipping and Shaving Appliances

ANSI/UL 1042 Electric Baseboard Heating Equipment

ANSI/UL 1054 Special-Use Switches

ANSI/UL 1069 Hospital Signaling and Nurse-Call System

UL 1083 Household Electric Skillets and Frying-Type Appliances

ANSI/UL 1203* Explosion-Proof and Dust-Ignition-Proof Electrical Equipment for Use in Hazardous (Classified) Locations

UL 1236 Battery Chargers for Charging Engine-Starter Batteries

UL 1244 Electrical and Electronic Measuring and Testing Equipment

UL 1248 Engine-Generator Assemblies for Use in Recreational Vehicles

ANSI/UL 1262 Laboratory Equipment

ANSI/UL 1270 Radio Receivers, Audio Systems, and Accessories

ANSI/UL 1310 Direct Plug-In Transformer Units

ANSI/UL 1409 Low-Voltage Video Products Without Cathode-Ray-Tube Displays

ANSI/UL 1410 Television Receivers and High-Voltage Video Products

ANSI/UL 1411 Transformers and Motor Transformers for Use in Audio-, Radio-, and Television-Type Appliances

UL 1431 Personal Hygiene and Health Care Appliances

UL 1449 Transient Voltage Surge Suppressors

UL 1459 Telephone Equipment

UL 1492 Audio-Video Products and Accessories

ANSI/UL 1570 Fluorescent Lighting Fixtures

ANSI/UL 1571 Incandescent Lighting Fixtures

UL 1598 Luminaries

ANSI/UL 1573 Stage and Studio Lighting Units

UL 1585 Class 2 and Class 3 Transformers

UL 1604 Electrical Equipment for Use In Class I and II, Division 2, and Class III Hazardous (Classified) Locations

ANSI/UL 1638 Visual Signaling Appliances—Private Mode Emergency and General Utility Signaling

ANSI/UL 1647 Motor-Operated Massage and Exercise Machines

UL 1778 Uninterruptible Power Supply Equipment

UL 1786 Nightlights

UL 1950 Safety of Information Technology Equipment, Including Electrical Business Equipment

UL 1993 Self-Ballasted Lamps and Lamp Adapters

UL 1995 Heating and Cooling Equipment

UL 2601-1 Medical Electrical Equipment, Part 1: General Requirements for Safety

UL 3101-1 Electrical Equipment for Laboratory Use; Part 1: General Requirements

UL 3111 Electrical Measuring and Test Equipment; Part 1: General Requirements

UL 6500 Audio/Visual and Musical Instrument Apparatus for Household, Commercial, and Similar General Use

*Testing and certification of products under this test standard is limited to Class I locations. Explosion testing is also limited to current test chamber capabilities.

At the time of preparation of this preliminary notice, some of the test standards for which OSHA currently recognizes MET, and which are listed above, have been withdrawn or replaced by the standards developing organization. Under OSHA policy regarding such withdrawn or replaced test standards, OSHA can no longer recognize the NRTL for the test standards, but the NRTL may request recognition for comparable test standards, i.e., other appropriate test standards covering similar types of product testing. However, a number of other NRTLs also are recognized for these withdrawn or replaced standards. As a result, OSHA will publish a separate notice to make the appropriate substitutions for MET and the other NRTLs that were recognized for these standards.

OSHA's recognition of MET, or any NRTL, for a particular test standard is limited to equipment or materials (i.e., products) for which OSHA standards require third party testing and certification before use in the workplace. Consequently, an NRTL's scope of recognition excludes any product(s) falling within the scope of a test standard for which OSHA has no NRTL testing and certification requirements.

Many of the Underwriters Laboratories Inc. (UL) test standards listed above also are approved as American National Standards by the American National Standards Institute (ANSI). However, for convenience in compiling the list, we use the designation of the standards developing organization (e.g., UL 1012) for the standard, as opposed to the ANSI designation (e.g., ANSI/UL 1012). Under our procedures, an NRTL recognized for an ANSI-approved test standard may use either the latest proprietary version of the test standard or the latest ANSI version of that standard, regardless of whether it is currently recognized for the proprietary or ANSI version. Contact ANSI or the ANSI Web site (http://www.ansi.org) and click “NSSN” to find out whether or not a test standard is currently ANSI-approved.

Programs and Procedures

The renewal would include MET's continued use of the following supplemental programs and procedures, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. OSHA has already recognized MET for these programs. See http://www.osha-slc.gov/dts/otpca/nrtl/met.html.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Expansion of Recognition

MET seeks recognition for testing and certification of products for demonstration of conformance to the following two test standards, and OSHA has determined that the standards are “appropriate” within the meaning of 29 CFR 1910.7(c).

UL 924 Emergency Lighting and Power Equipment

UL 1008 Transfer Switch

The NRTL Program staff did not perform an on-site review in connection with the expansion request but reviewed information pertinent to this request and provided a positive recommendation on the expansion (see Exhibit 29-1).

Preliminary Finding

MET has submitted acceptable requests for renewal and expansion of its recognition as an NRTL. Following a review of the application files, and other pertinent information, the NRTL Program staff has concluded that OSHA can grant to MET: (1) the renewal for the one site and the test standards and programs listed above, and (2) the expansion for the additional two test standards, also listed above. The staff therefore recommended to the Assistant Secretary that the applications be preliminarily approved.

Based upon the recommendation of the staff, the Assistant Secretary has made a preliminary finding that MET Laboratories, Inc., can meet the requirements as prescribed by 29 CFR 1910.7 for the renewal and expansion of its recognition.

OSHA welcomes public comments, in sufficient detail, as to whether MET has met the requirements of 29 CFR 1910.7 for the renewal and expansion of its recognition as a Nationally Recognized Testing Laboratory. Your comment should consist of pertinent written documents and exhibits. To consider it, OSHA must receive the comment at the address provided above (see ADDRESSES), no later than the last date for comments (see DATES above). Should you need more time to comment, OSHA must receive your written request for extension at the address provided above (also see ADDRESSES) no later than the last date for comments (also see DATES above). You must include your reason(s) for any request for extension. OSHA will limit an extension to 30 days, unless the requester justifies a longer period. We may deny a request for extension if it is frivolous or otherwise unwarranted. You may obtain or review copies of MET's requests, the on-site review report, other exhibits, and all submitted comments, as received, by contacting the Docket Office, Room N2625, Occupational Safety and Health Administration, U.S. Department of Labor, at the above address. You should refer to Docket No. NRTL1-88, the permanent record of public information on MET's recognition.

The NRTL Program staff will review all timely comments and, after resolution of issues raised by these comments, will recommend whether to grant MET's renewal and expansion requests. The Assistant Secretary will make the final decision on granting the renewal and expansion and, in making this decision, may undertake other proceedings that are prescribed in Appendix A to 29 CFR 1910.7. OSHA will publish a public notice of this final decision in the Federal Register.

Signed at Washington, DC, this 3rd day of April, 2002.
John L. Henshaw,
Assistant Secretary.

[FR Doc. 02-8768 Filed 4-10-02; 8:45 am]

BILLING CODE 4510-26-P